DEPARTMENT OF THE TREASURY

Submission for OMB Review; Comment Request

December 18, 2008.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before January 22, 2009 to be assured of consideration.

Financial Management Service (FMS)

OMB Number: 1510-0057.

Type of Review: Extension.

Title: Annual Letters—Certificate of Authority (A) and Admitted Reinsurer (B).

Description: The information is collected so that Treasury can make the appropriate determinations as to the renewal of the Certificates of Authority of currently certified companies and the renewal of companies currently recognized by Treasury as Admitted Reinsurers. Included in the package is the Annual Letter to Executive Officers of Surety Companies Reporting to the Treasury (A) and the Annual Letter to Executive Officers of Companies Recognized by the Treasury as Admitted Reinsurers (B). The Secretary of the Treasury has been given authority pursuant to 31 U.S.C. 9304-9308 to certify insurance companies wishing to write or reinsure federal surety bonds. The authority has been further codified at 31 CFR Part 223.9 which specifies guidelines applicable to companies seeking certification while Part 223.12 specifies requirements applicable to companies seeking recognition as an Admitted Reinsurer.

Respondents: Businesses or other for-profit institutions.

Estimated Total Burden Hours: 13,674 hours.

Clearance Officer: Wesley Powe, (202) 874-7662, Financial Management Service, Room 135, 3700 East West Highway, Hyattsville, MD 20782.

OMB Reviewer: Alexander T. Hunt, (202) 395-7316, Office of Management and Budget, Room 10235, New Executive Office Building, Washington, DC 20503.

Robert B. Dahl,
Treasury PRA Clearance Officer.

[FR Doc. E8-30522 Filed 12-22-08; 8:45 am]

BILLING CODE 4810-35-P